ENVIRONMENTAL PROTECTION AGENCY

[EPA-R01-OW-2006-00581; FRL-8326-2]

Connecticut Marine Sanitation Device Standard—Notice of Determination

AGENCY: Environmental Protection Agency (EPA).

ACTION: Notice of Determination.

SUMMARY: The Regional Administrator of the Environmental Protection Agency—New England Region, has determined that adequate facilities for the safe and sanitary removal and treatment of sewage from all vessels are reasonably available for the state waters of Branford, East Haven, New Haven, West Haven, Orange, Milford, Stratford, Bridgeport, Fairfield, Westport, Norwalk, Darien, Stamford, and Greenwich. The area also includes the Housatonic River from the Derby Dam and the Quinnipiac River from the southern border of North Haven.

ADDRESSES: Docket: All documents in the docket are listed in the http://www.regulations.gov index. Although listed in the index, some information is not publicly available, e.g., CBI or other information whose disclosure is restricted by statute. Certain other material, such as copy-righted material, will be publicly available only in hard copy. Publicly available docket materials are available electronically in http://www.regulations.gov.

FOR FURTHER INFORMATION CONTACT: Ann Rodney, U.S. Environmental Protection Agency—New England Region, One Congress Street, Suite 1100, COP, Boston, MA 02114-2023. Telephone: (617) 918-0538. Fax number: (617) 918-1505. e-mail address: Rodney.ann@epa.gov.

SUPPLEMENTARY INFORMATION: This Notice of Determination is for the state waters of Branford, East Haven, New Haven, West Haven, Orange, Milford, Stratford, Bridgeport, Fairfield, Westport, Norwalk, Darien, Stamford, and Greenwich. The area also includes the Housatonic River from the Derby Dam and the Quinnipiac River from the southern border of North Haven, Connecticut. The area of designation includes:

Waterbody/general area | Latitude | Longitude
From Byram Point at the western border of Greenwich | 40°59′03.15″N | 73°39′24.55″W
Southeast following the boundary between CT & NY to a point in LIS | 40°57′03.23″N | 73°36′46.42″W
Easterly following the boundary between CT & NY to a point due south of Hoadley Point at the eastern border of Branford | 41°07′51.17″N | 72°44′09.73″W
Due north to Hoadley Point at the eastern border of Branford | 41°15′22.88″N | 72°44′09.73″W

The proposed area also includes the navigable reaches of all Connecticut rivers and tidal streams that drain into Long Island Sound within its bounds, including the Housatonic River from the Derby Dam and the Quinnipiac River from the southern border of North Haven.

On February 23, 2007, notice was published that the State of Connecticut had petitioned the Regional Administrator, Environmental Protection Agency, to determine that adequate facilities for the safe and sanitary removal and treatment of sewage from all vessels are reasonably available for the state waters of Branford, East Haven, New Haven, West Haven, Orange, Milford, Stratford, Bridgeport, Fairfield, Westport, Norwalk, Darien, Stamford, and Greenwich. The area also includes the Housatonic River from the Derby Dam and the Quinnipiac River from the southern border of North Haven. Nine comments were received on this petition.

The petition was filed pursuant to Section 312(f)(3) of Public Law 92-500, as amended by Public laws 95-217 and 100-4, for the purpose of declaring these waters a “No Discharge Area” (NDA).

Section 312(f)(3) states: After the effective date of the initial standards and regulations promulgated under this section, if any State determines that the protection and enhancement of the quality of some or all of the waters within such States require greater environmental protection, such State may completely prohibit the discharge from all vessels of any sewage, whether treated or not, into such waters, except that no such prohibition shall apply until the Administrator determines that adequate facilities for the safe and sanitary removal and treatment of sewage from all vessels are reasonably available for such water to which such prohibition would apply.

The information submitted to EPA by the State of Connecticut certifies that there are 43 pumpout facilities located within the proposed area. A list of the facilities, with phone numbers, locations, and hours of operation is appended at the end of this determination.

Based on the examination of the petition and its supporting documentation and information from site visits by EPA New England staff, EPA has determined that adequate facilities for the safe and sanitary removal and treatment of sewage from all vessels are reasonably available for the area covered under this determination.

This determination is made pursuant to Section 312(f)(3) of Public Law 92-500, as amended by Public laws 95-217 and 100-4.

Pumpout Facilities Within Proposed No Discharge Area
Name | Location (figure) | Contact information | Hours of operation (call ahead to verify)
Grass Island Municipal Pumpout | Greenwich Harbor, Greenwich | No Radio, 203-618-9695 | May 1-Oct 31, daily, 8 a.m. to 8 p.m.
Beacon Point Marine | Mianus River, Cos Cob | VHF CH 9, 203-661-4033 | April 1-Nov 30, M-F, 8 a.m. to 5 p.m.; Sat 8 a.m. to 6 p.m.; Sun 8 a.m. to 4 p.m.
Mianus River Boat & Yacht Club | Mianus River, Cos Cob | No Radio, 203-869-4689 | April 1-Nov 30, daily, 24 hours.
Riverside Yacht Club | Mianus River, Cos Cob | 203-637-1706 | No Data.
Soundkeeper Pumpout Boat | Greenwich Harbor, Greenwich | VHF CH 77, 1-800-933-SOUND | May 1-Labor Day, W, Th, F, 1 p.m. to 5 p.m.; Sat, Sun 10 a.m.-6 p.m. Call for Fall Hours.
Cummings Park Marina | Westcott Cove, Stamford | No Radio, 203-977-5139 | Apr 1-Nov 30, daily, 24 hours.
Czescik Municipal Marina | Stamford Harbor, Stamford | No Radio, 203-977-5008 | Year round, daily, 24 hours.
Harbour Square Marina | Stamford Harbor East Branch, Stamford | VHF CH 9, 203-324-3331 | May 1-Nov 30, daily, 9 a.m. to 8 p.m.; Dec 1-Dec 31, daily 9 a.m. to 3 p.m.
Soundkeeper Pumpout Boat | Stamford Harbor, Stamford | VHF CH 77, 1-800-933-SOUND | May 1-Labor Day. Call for hours.
Stamford Landing Marina | Stamford Harbor West Branch Stamford | VHF CH 9, 203-965-0065 | May 1-Oct 31, daily, 9 a.m. to 5 p.m.
Brewer Yacht Haven | Stamford | No data | No data.
Avalon | Stamford Harbor | No data | No data.
Soundkeeper Pumpout Boat I | Norwalk Harbor, Fivemile River, Campo Cove, Saugatuck River | VHF CH 77, 1-800-933-SOUND | May 1-Labor Day, T, Th, F, 8 a.m. to 6 p.m. Call for Fall Hours.
Soundkeeper Pumpout Boat II | Norwalk Harbor, Fivemile River, Campo Cove, Saugatuck River | VHF CH 77, 1-800-933-SOUND | May 1-Labor Day, T, Th, F, 8 a.m. to 6 p.m. Call for Fall Hours.
Norwalk Cove Marina, Inc | Charles Creek, Norwalk | VHF CH 9, 72, 203-838-2326 | Jan 1-Nov 30, daily, 8 a.m. to 6 p.m.
Norwalk Visitor's Dock | Norwalk Harbor, Norwalk | VHF CH 9, 203-866-8810 | May 1-Oct 31, daily, 7 a.m. to 6 p.m.
Rex Marine Center, Inc | Norwalk Harbor, Norwalk | VHF CH 9, 203-866-5555 | Apr 1-Nov 30, daily, 8 a.m. to 5 p.m.
South Norwalk Boat Club | Norwalk Harbor, Norwalk | No data | No data.
The Boatworks, Inc | Fivemile River, Rowayton | VHF CH 68, 203-866-9295 | Apr 1-Nov 30, daily, 8 a.m. to 4:30 p.m.
Compo Yacht Basin | Saugatuck River, Westport | VHF CH 11, 16, 203-227-9136 | May 1-Sept 30, daily, 8 a.m. to 8 p.m.
Pequot Yacht Club | Southport Harbor, Fairfield | VHF CH 69, 203-255-5740 | May 15-Oct 1, daily, 9 a.m. to 8 p.m.
South Benson Marina | Ash Creek, Fairfield | VHF CH 9, 16, 203-256-3010 | May 1-Nov 30, daily, 8 a.m. to 6 p.m.
Captain's Cove Seaport | Black Rock Harbor, Bridgeport | VHF CH 18, 203-335-1433 | May 1-Sept 30, daily, 9 a.m. to 4 p.m.
Cedar Marina, Inc | Cedar Creek, Bridgeport | VHF CH 9, 203-335-6262 | April 1-Nov 30, daily, 8 a.m. to 5 p.m.
City of Bridgeport Pumpout Boat | Black Rock and Bridgeport Harbors, Bridgeport | VHF CH 6, 9, 13, 16, 203-384-9777 | Apr 1-Oct 31, daily, 9 a.m. to 5 p.m.
Fayerweather Yacht Club | Black Rock Harbor, Bridgeport | VHF CH 14, 203-576-6796 | May 15-Oct 15, daily, 8 a.m. to 8 p.m.
Miamogue Yacht Club Incorporated | Johnson's Creek, Bridgeport Harbor |  | (203) 334-9882
Brewer Stratford Marina | Housatonic River, Stratford | VHF CH 9, 10, 203-378-9300 | Year round, daily, 9 a.m. to 5 p.m.
Caswell Cove Marina | Stratford | No data | No data.
Stratford Boardwalk Marina (Formerly Marina at the Dock) | Housatonic River, Stratford | VHF CH 9, 203-378-9300 | Apr 1-Oct 31, daily 8 a.m. to 5 p.m.
Town of Stratford Pumpout Boat | Housatonic River, Stratford | VHF CH 68, 203-381-2049 | May 15-Oct 31, Th-M, 10 a.m. to 6 p.m.
Milford Harbor Marina | Milford Harbor, Milford | VHF CH 68, 203-877-1475 | May 1-Oct 31, daily, 8 a.m. to 5 p.m.
Milford Landing | Milford Harbor, Milford | VHF CH 9, 203-874-1610 | Apr 1-Nov 30 daily, 7 a.m. to 8 p.m.
West Cove Co-op Marina | West River, West Haven | No Radio, 203-933-3000 | May 1-Sept 30, W-F, 3 p.m. to 7 p.m.; Sat and Sun, 8 a.m. to 7 p.m.
City of New Haven Long Wharf | New Haven Harbor, New Haven | No Radio, 203-946-6779 | Memorial Day-Labor Day, M-F, 9 a.m. to 5 p.m.; Sat, Sun 10 a.m. to 5 p.m.
Oyster Point Marina | New Haven Harbor, New Haven | VHF CH 9, 11, 203-624-5895 | Apr 1-Oct 31, daily, 8 a.m. to 5 p.m.
Waucoma Yacht Club | Quinnipiac River, New Haven | VHF CH 9, 203-789-9530 | Memorial Day-Nov 15, M-F, 3 p.m. to 7 p.m.; Sat and Sun, 10 a.m. to 7 p.m.
Branford Yacht Club | Branford River, Branford | VHF CH 9, 203-488-0798 | June 1-Sept 30, daily, 8 a.m. to 7:30 p.m.; April 1-May 31 and Oct 1-Oct 31, daily, 8 a.m. to 4:30 p.m.
Brewer Bruce & Johnson's Marina, Inc | Branford River, Branford | VHF CH 9, 203-488-8329 | Apr 1-Nov 30, daily, 8 a.m. to 4:30 p.m.
Goodsell Point Marina | Branford River, Branford | No Radio, 203-488-5292 | May 1-Nov 30, daily, 9 a.m. to 5 p.m.
Pier 66 Marina | Branford River, Branford | VHF Ch 9, 203-488-5613 | N/A.
Pine Orchard Yacht Club | Branford | No data | No data.
Town of Branford Pumpout Boat | Branford River & Thimble Islands, Branford | VHF CH 9, 203-430-9305 | May 15-Oct 31, Sat, 8 a.m. to 3 p.m.; Sun, 8 a.m. to 4 p.m.

Dated: May 29, 2007.
Robert W. Varney,
Regional Administrator, New England Region.

[FR Doc. E7-11312 Filed 6-14-07; 8:45 am]

BILLING CODE 6560-50-P